INTERNATIONAL TRADE COMMISSION

[Inv. No. 337-TA-496]

Certain Home Vacuum Packaging Products; Notice of a Commission Determination Not to Review an Initial Determination Terminating the Investigation as to the Rival Respondents on the Basis of a Settlement Agreement

AGENCY: International Trade Commission.

ACTION: Notice.

SUMMARY: Notice is hereby given that the U.S. International Trade Commission has determined not to review the presiding administrative law judge's (“ALJ's”) initial determination (“ID”) terminating the Rival respondents from the above-captioned investigation on the basis of a settlement agreement.

FOR FURTHER INFORMATION CONTACT: Timothy P. Monaghan, Esq., Office of the General Counsel, U.S. International Trade Commission, 500 E Street, SW., Washington, DC 20436, telephone 202-205-3152. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://www.edis.usitc.gov.

SUPPLEMENTARY INFORMATION: On August 18, 2003, the Commission instituted this investigation based upon a complaint filed by Tilia, Inc. and Tilia International (collectively, “Tilia”). 68 FR 49521. In its complaint, Tilia alleges that the accused imported products infringe claims 3, 4, 6, 24-25, and 34 of U.S. Patent No. 4,941,310. The notice of investigation named ZeroPack Co., Ltd., Applica, Inc., and Applica Consumer Products, Inc. (collectively, “the Applica respondents”); and The Holmes Group, Inc. and The Rival Company (collectively “the Rival respondents”) as respondents.

On March 4, 2004, the presiding ALJ issued the subject ID (Order No. 45) granting the joint motion of Tilia and the Rival respondents to terminate the investigation as to the Rival respondents on the basis of a settlement agreement. The Commission investigative attorney supported the joint motion. The remaining respondents, the Applica respondents, did not respond to the motion.

No party filed a petition to review the subject ID.

The authority for the Commission's action is contained in section 337 of the Tariff Act of 1930, as amended (19 U.S.C. 1337) and in § 210.42 of the Commission's Rules of Practice and Procedure (19 CFR 210.42).

Issued: March 29, 2004.
By order of the Commission.
Marilyn R. Abbott,
Secretary.

[FR Doc. 04-7332 Filed 3-31-04; 8:45 am]

BILLING CODE 7020-02-U